DEPARTMENT OF THE INTERIOR

Bureau of Indian Affairs

25 CFR Part 175

[190A2100DD/AAKC001030/A0A501010.999900 253G]

RIN 1076-AF31

Indian Electric Power Utilities

AGENCY: Bureau of Indian Affairs, Interior.

ACTION: Final rule.

SUMMARY: This rule revises regulations addressing electric power utilities of the Colorado River, Flathead, and San Carlos Indian irrigation projects to use plain language, update definitions, lengthen a regulatory deadline, and make other minor changes.

DATES: This rule is effective December 28, 2018.

FOR FURTHER INFORMATION CONTACT: David Fisher, Branch Chief Irrigation & Power, Division of Water & Power, Bureau of Indian Affairs, telephone (303) 231-5225, david.fisher@bia.gov.

SUPPLEMENTARY INFORMATION:

I. Background

II. Description of Changes

III. Procedural Requirements

A. Regulatory Planning and Review (E.O.s 12866 and 13563) and Reducing Regulation and Controlling Regulatory Costs (E.O. 13771)

B. Regulatory Flexibility Act

C. Small Business Regulatory Enforcement Fairness Act

D. Unfunded Mandates Reform Act

E. Takings (E.O. 12630)

F. Federalism (E.O. 13132)

G. Civil Justice Reform (E.O. 12988)

H. Consultation With Indian Tribes (E.O. 13175)

I. Paperwork Reduction Act

J. National Environmental Policy Act

K. Effects on the Energy Supply (E.O. 13211)

I. Background

Various statutes provide the Bureau of Indian Affairs (BIA) with authority to issue this regulation and for administering electric power utilities for the Colorado River, Flathead (Mission Valley Power), and San Carlos Indian irrigation projects. For example, see 5 U.S.C. 301; 25 U.S.C. 13; 25 U.S.C. 385c; 43 Stat. 475-76; 45 Stat. 210-13; 49 Stat. 1039-40; 49 Stat. 1822-23; 54 Stat. 422; 62 Stat. 269-73; 65 Stat. 254; 99 Stat. 319-20. Each of these power projects provides energy, transmission, and distribution of electrical services to customers in their respective service areas. BIA (or the contracting/compacting Indian Tribe) provides oversight and limited technical assistance for power projects and conducts operations and maintenance of the distribution systems.

The regulations addressing BIA's administration of the power utilities are at 25 CFR part 175, Indian Electric Power Utilities. This final rule updates the regulations for the first time since 1991.

II. Description of Changes

The revisions being finalized today are intended to make the regulations more user-friendly through plain language. The final rule also updates definitions, lengthens the time by which BIA must issue a decision on an appeal from 30 days to 60 days (by referring to 25 CFR 2.19(a)), and requires publication of rate adjustments in the Federal Register. These changes were proposed on December 27, 2017 at 82 FR 61193. BIA received no comments relevant to the proposed rule. The final rule makes no changes to the proposed rule. The following tables summarize the final changes:

Table 1
Current 25 CFR section | New 25 CFR section | Summary of changes
175.1 Definitions | 175. 100 What terms should I know for this part? | Deletes the definitions of “appellant” and “officer-in-charge.” Adds definitions for “bill,” “CFR,” “day(s),” “delinquent,” “due date,” “electric energy,” “energy,” “fee,” “I, me, my, you, and your,” “must,” “past due bill,” “power,” “public notice,” “purchased power,” “taxpayer identification number,” “utility(ies),” and “we, us, and our.”
|  | Replaces definition of “Area Director” with a definition of “BIA.”
|  | Revises the definition of “customer,” “electric power utility,” “electric service,” “operations manual,” “service,” “service fee.”
|  | Revises the definition of “power rate” and replaces it with the terms “rate” and “electric power rate.”
|  | Revises the definition of “service agreement” and replaces it with the term “agreement.”
|  | Revises the definition of “special contract” and replaces it with the term “special agreement.”
175.2 Purpose | 175.105 What is the purpose of this part? | Revises for plain language.
175.3 Compliance | 175.110 Does this part apply to me? | Revises for plain language.
175.4 Authority of area director | N/A | Deletes provisions containing delegations of authority to eliminate possible conflicts with the Departmental Delegations of Authority.
175.5 Operations manual | 175.115 How does BIA administer its electric power utilities? 175.120 What are Operations Manuals? | Revises for plain language, deletes specific means by which public notice of changes will be provided, and incorporates instead the definition of “public notice,” which provides for publishing information consistent with the operations manual.
175.6 Information collection | 175.600 How does the Paperwork Reduction Act affect this part? | Revises for plain language.
175.10 Revenues collected from power operations | 175.200 Why does BIA collect revenue from you and the other customers it serves, and how is that revenue used? 175.205 When are BIA rates and fees reviewed? | Revises for plain language and deletes amortization as an example for what BIA may use revenue.
175.11 Procedures for setting service fees | 175.210 What is BIA's procedure for setting service fees? | Deletes provisions containing delegations of authority to eliminate possible conflicts with Departmental Delegations of Authority.
175.12 Procedures for adjusting electric power rates except for adjustments due to changes in the cost of purchased power or energy | 175.215 What is BIA's procedure for adjusting electric power rates? 175.220 How long do rate and fee adjustments stay in effect? | Adds a requirement for BIA to publish a proposed rate adjustment in the Federal Register.
175.13 Procedures for adjusting electric power rates to reflect changes in the cost of purchased power or energy | 175.235 How does BIA include changes in purchased power costs to our electric power rates? | Revises for plain language.
175.20 Gratuities | N/A | This section is deleted because it is already addressed by other laws.
175.21 Discontinuance of service | 175.315 What will happen if I do not pay my bill? | Revises for plain language.
175.22 Requirements for receiving electrical service | 175.125 How do I request and receive service? | Revises for plain language.
175.23 Customer responsibilities | N/A | Deleted because this provision is for a project-specific authority addressed at the local BIA level.
175.24 Utility responsibilities | N/A | Incorporates the substance into sections 175.115 and 175.120, which refer to operations manual instead of setting out responsibilities.
175.30 Billing | 175.300 How does BIA calculate my electric bill? | Revises for plain language.
175.31 Methods and terms of payment | 175.310 How do I pay my bill? | Replaces provision stating that the utility may refuse, for cause, to accept personal checks with a general statement that the electric utility that serves you may provide additional requirements.
175.32 Collections | 175.315 What will happen if I do not pay my bill? | Revises for plain language.
| 175.320 What will happen if my service is disconnected and my account remains delinquent?
175.40 Financing of extensions and upgrades | 175.400 Will the utility extend or upgrade its electric system to serve new or increased loads? | Revises to direct customers to contact the electric power utility for more information.
175.50 Obtaining rights-of-way 175.51 Ownership. | 175.500 How does BIA manage rights-of-way? | Revises to direct customers to contact the electric power utility for more information.
175.60 Appeals to the area director 175.61 Appeals to the Interior Board of Indian Appeals. 175.62 Utility actions pending the appeal process. | 175.145 Can I appeal a BIA decision? | Combines current sections 175.60 and 175.61 into a paragraph that refers to 25 CFR part 2 rather than explicitly stating appeal procedures. Increases the time by which BIA must issue a decision on an appeal from 30 days to 60 days (see 25 CFR 2.19(a)). Adds a new paragraph (b) to clarify that a customer must pay the bill to continue to receive service. Incorporates section 175.62 into new paragraphs (c) through (e).

New Provisions
Current 25 CFR section | New final 25 CFR section | Summary of changes
N/A | 175.130 What information must I provide when I request service? | New section.
N/A | 175.135 Why is BIA collecting this information? | New section.
N/A | 175.140 What is BIA's authority to collect my taxpayer identification number? | New section.
N/A | 175.225 What is the Federal Register, and where can I get it? | New section.
N/A | 175.230 Why are changes to purchased power costs not included in the procedure for adjusting electric power rates? | New section.
N/A | 175.320 What will happen if my service is disconnected and my account remains delinquent? | New section.
N/A | 175.305 When is my bill due? | New section.

III. Procedural Requirements

A. Regulatory Planning and Review (E.O. 12866 and 13563) and Reducing Regulation and Controlling Regulatory Costs (E.O. 13771)

Executive Order (E.O.) 12866 provides that the Office of Information and Regulatory Affairs in the Office of Management and Budget will review all significant rules. The Office of Information and Regulatory Affairs has determined that this rule is not significant.

E.O. 13563 reaffirms the principles of E.O. 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this rule in a manner consistent with these requirements.

This rule is not an E.O. 13771 regulatory action because this rule is not significant under E.O. 12866.

B. Regulatory Flexibility Act

This document will not have a significant economic effect on a substantial number of small entities under the Regulatory Flexibility Act (5 U.S.C. 601 et seq.) because the rule does not make any changes to electric power rates or service fees.

C. Small Business Regulatory Enforcement Fairness Act

This rule is not a major rule under 5 U.S.C. 804(2), the Small Business Regulatory Enforcement Fairness Act. This rule:

(a) Does not have an annual effect on the economy of $100 million or more;

(b) Will not cause a major increase in costs or prices for consumers, individual industries, Federal, State, or local government agencies, or geographic regions;

(c) Does not have significant adverse effects on competition, employment, investment, productivity, innovation, or the ability of U.S.-based enterprises to compete with foreign-based enterprises.

D. Unfunded Mandates Reform Act

This rule does not impose an unfunded mandate on State, local, or tribal governments or the private sector of more than $100 million per year. The rule does not have a significant or unique effect on State, local, or tribal governments or the private sector. A statement containing the information required by the Unfunded Mandates Reform Act (2 U.S.C. 1531 et seq.) is not required.

E. Takings (E.O. 12630)

This rule does not effect a taking of private property or otherwise have taking implications under E.O. 12630. A takings implication assessment is not required.

F. Federalism (E.O. 13132)

Under the criteria in section 1 of E.O. 13132, this rule does not have sufficient Federalism implications to warrant the preparation of a Federalism summary impact statement. A Federalism summary impact statement is not required.

G. Civil Justice Reform (E.O. 12988)

This rule complies with the requirements of E.O. 12988. Specifically, this rule:

(a) Meets the criteria of section 3(a) requiring that all regulations be reviewed to eliminate errors and ambiguity and be written to minimize litigation; and

(b) Meets the criteria of section 3(b)(2) requiring that all regulations be written in clear language and contain clear legal standards.

H. Consultation With Indian Tribes (E.O. 13175 and Departmental Policy)

The Department of the Interior strives to strengthen its government-to-government relationship with Indian Tribes through a commitment to consult with Indian Tribes and recognize their right to self-governance and Tribal sovereignty. We have evaluated this rule under the Department's consultation policy and under the criteria in E.O. 13175 for substantial direct effects on federally recognized Indian Tribes and have consulted with those Tribes served by the electric power utilities subject to this rule. We hosted two in-person Tribal consultation sessions in the vicinity of Tribes served by the electric power utilities: One on April 14, 2016, in Pablo, Montana, and one on April 19, 2016, in Phoenix, Arizona. One Tribe submitted comments on the draft regulation, to which we have responded by letter because the comments are primarily unique to the local utility. We included an offer in the proposed rule for any Tribe that would like additional consultation opportunities on the proposed regulatory changes to contact BIA. No Tribe requested additional consultation opportunities on the rule.

I. Paperwork Reduction Act

The information collection requirements contained in 25 CFR part 175 are authorized by OMB Control Number 1076-0021, with an expiration date of June 30, 2019. A submission to the Office of Management and Budget under the Paperwork Reduction Act (44 U.S.C. 3501 et seq.) is not required because this rule would not affect the information collection requirements contained in 25 CFR part 175. We may not conduct or sponsor, and you are not required to respond to, a collection of information unless it displays a currently valid OMB control number.

J. National Environmental Policy Act

This rule does not constitute a major Federal action significantly affecting the quality of the human environment. A detailed statement under the National Environmental Policy Act of 1969 (NEPA) is not required because the rule is covered by a categorical exclusion. This rule is excluded from the requirement to prepare a detailed statement because it is a regulation of an administrative nature. (For further information, see 43 CFR 46.210(i).) We have also determined that the rule does not involve any of the extraordinary circumstances listed in 43 CFR 46.215 that would require further analysis under NEPA.

K. Effects on the Energy Supply (E.O. 13211)

This rule is not a significant energy action under the definition in E.O. 13211. A Statement of Energy Effects is not required.

List of Subjects in 25 CFR Part 175

Administrative practice and procedure, Electric power, Indians—lands, Reporting and recordkeeping requirements.

For the reasons given in the preamble, the Department of the Interior amends chapter 1 of title 25 Code of Federal Regulations by revising part 175 to read as follows.

PART 175—ELECTRIC POWER UTILITIES

Subpart A—General Provisions
Sec.
175.100 What terms should I know for this part?
175.105 What is the purpose of this part?
175.110 Does this part apply to me?
175.115 How does BIA administer its electric power utilities?
175.120 What are Operations Manuals?
175.125 How do I request and receive service?
175.130 What information must I provide when I request service?
175.135 Why is BIA collecting this information?
175.140 What is BIA's authority to collect my taxpayer identification number?
175.145 Can I appeal a BIA decision?
Subpart B—Service Fees, Electric Power Rates, and Revenues
175.200 Why does BIA collect revenue from you and the other customers it serves, and how is that revenue used?
175.205 When are BIA rates and fees reviewed?
175.210 What is BIA's procedure for adjusting service fees?
175.215 What is BIA's procedure for adjusting electric power rates?
175.220 How long do rate and fee adjustments stay in effect?
175.225 What is the Federal Register, and where can I get it?
175.230 Why are changes to purchased power costs not included in the procedure for adjusting electric power rates?
175.235 How does BIA include changes in purchased power costs to our electric power rates?
Subpart C—Billing, Payments, and Collections
175.300 How does BIA calculate my electric power bill?
175.305 When is my bill due?
175.310 How do I pay my bill?
175.315 What will happen if I do not pay my bill?
175.320 What will happen if my service is disconnected and my account remains delinquent?
Subpart D—System Extensions and Upgrades, Rights-of-Way, and Paperwork Reduction Act
175.400 Will the utility extend or upgrade its electric system to serve new or increased loads?
175.500 How does BIA manage rights-of-way?
175.600 How does the Paperwork Reduction Act affect this part?

Authority: 5 U.S.C. 301; 25 U.S.C. 13; 25 U.S.C. 385c; 43 Stat. 475-76; 45 Stat. 210-13; 49 Stat. 1039-40; 49 Stat. 1822-23; 54 Stat. 422; 62 Stat. 269-73; 65 Stat. 254; 99 Stat. 319-20.

Subpart A—General Provisions

§ 175.100 What terms I should know for this part?

Agreement means the executed written form between you and the utility providing your service, except for service provided under a Special Agreement.

BIA means the Bureau of Indian Affairs within the United States Department of the Interior or the BIA's authorized representative.

Bill means our written statement notifying you of the charges and/or fees you owe the United States for the administration, operation, maintenance, rehabilitation, and/or construction of the electric power utility servicing you.

CFR means Code of Federal Regulations.

Customer means any person or entity to whom we provide service.

Customer service is the assistance or service provided to customers, except for the actual delivery of electric power or energy. Customer service may include: Line extension, system upgrade, meter testing, connections or disconnection, special meter reading, or other assistance or service as provided in the Operations Manual.

Day(s) means calendar day(s).

Delinquent means an account that has not been paid and settled by the due date.

Due date means the date by which you must pay your bill. The due date is printed on your bill.

Electric energy (see Electric power).

Electric power means the energy we deliver to meet customers' electrical needs.

Electric power rate means the charges we establish for delivery of energy to our customers, which includes administration costs and operation and maintenance costs in addition to the cost of purchased power.

Electric power utility means all structures, equipment, components, and human resources necessary for the delivery of electric service.

Electric service means the delivery of electric power by our utility to our customers.

Energy means electric power.

Fee (see Service fee).

I, me, my, you, and your means all interested parties, especially persons or entities to which we provide service and receive use of our electric power service.

Must means an imperative or mandatory act or requirement.

Operations Manual means the written policies, practices, procedures and requirements of the utility providing your service. The Operations Manual supplements this Part and includes our responsibilities to our customers and our customers' responsibilities to the utility.

Past due bill means a bill that has not been paid by the due date.

Power (see Energy).

Public notice is the notice provided by publishing information consistent with the utility's Operations Manual.

Purchased power means the power we must purchase from power marketing providers for resale to our customers to meet changing power demands. Each of our utilities establishes its own power purchasing agreement based on its power demands and firm power availability.

Rate (see Electric power rate).

Reserve Funds means funds held in reserve for maintenance, repairs, or unexpected expenses.

Revenue means the monies we collect from our customers through service fees and electric power rates.

Service (see Electric service).

Service fee means our charge for providing or performing a specific administrative or customer service.

Special Agreement means a written agreement between you and us for special conditions or circumstances including unmetered services.

Taxpayer identification number means either your Social Security Number or your Employer Identification Number.

Utility(ies) see (Electric power utility).

Utility office(s) means our facility used for conducting business with our customers and the general public.

We, us, and our means the United States Government, the Secretary of the Interior, the BIA, and all who are authorized to represent us in matters covered under this Part.

§ 175.105 What is the purpose of this part?

The purpose of this part is to establish the regulations for administering BIA electric power utilities.

§ 175.110 Does this part apply to me?

This part applies to you if we provide you service or if you request service from us.

§ 175.115 How does BIA administer its electric power utilities?

We promote efficient administration, operation, maintenance, and construction of our utilities by following and enforcing:

(a) Applicable statutes, regulations, Executive Orders, Indian Affairs manuals, Operations Manuals;

(b) Applicable written policies, procedures, directives, safety codes; and

(c) Utility industry standards.

§ 175.120 What are Operations Manuals?

(a) We maintain an Operations Manual for each of our utilities. Each utility's Operations Manual is available at the utility.

(b) The Operations Manual sets forth the requirements for the administration, management, policies, and responsibilities of that utility and its customers.

(c) We update our Operations Manual for each utility to reflect changing requirements to administer, operate, or maintain that utility.

(d) When we determine it necessary to revise an Operations Manual, we will:

(1) Provide public notice of the proposed revision;

(2) State the effective date of the proposed revision;

(3) State how and when to submit your comments on our proposed revision;

(4) Provide 30 days from the date of the notice to submit your comments; and

(5) Consider your comments and provide notice of our final decision.

§ 175.125 How do I request and receive service?

(a) If you need electrical service in an area where we provide service, you must contact our utility in that service area.

(b) To receive service, you must enter into an Agreement with that utility after it has determined that you have met its requirements.

§ 175.130 What information must I provide when I request service?

At a minimum, you must provide the utility with the following information when you request service:

(a) Your full legal name or the legal name of the entity needing service;

(b) Your taxpayer identification number;

(c) Your billing address;

(d) Your service address; and

(e) Any additional information required by the utility.

§ 175.135 Why is BIA collecting this information?

We are collecting this information so we can:

(a) Provide you with service;

(b) Bill you for the service we provide; and

(c) Account for monies you pay us, including any deposits as outlined in the Operations Manual.

§ 175.140 What is BIA's authority to collect my tax payer identification number?

We are required to collect your taxpayer identification number under the authority of, and as prescribed in, the Debt Collection Improvement Act of 1996, Public Law 104-134 (110 Stat. 1321-364).

§ 175.145 Can I appeal a BIA decision?

(a) You may appeal a decision in accordance with the procedures set out in 25 CFR part 2, unless otherwise prohibited by law.

(b) If the appeal involves the discontinuation of service, the utility is not required to resume the service during the appeal process unless the customer meets the utility's requirements.

(c) If you appeal your bill, you must pay your bill in accordance with this part to continue to receive service from us.

(1) If the appeal involves the amount of your bill, the bill will be considered paid under protest until the final decision has been rendered on appeal.

(2) If you appeal your bill but do not pay the bill in full, you may not continue to receive service from us. If the final decision rendered in the appeal requires payment of the bill, the bill will be handled as a delinquent account and the amount of the bill may be subject to interest, penalties, and administrative costs pursuant to 31 U.S.C. 3717 and 31 CFR 901.9.

(3) If the appeal involves an electric power rate, the rate will be applied and remain in effect subject to the final decision on the appeal.

Subpart B—Service Fees, Electric Power Rates, and Revenues

§ 175.200 Why does BIA collect revenue from you and the other customers it serves, and how is that revenue used?

(a) The revenue we collect from you and the other customers is authorized by 25 U.S.C. 385c (60 Stat. 895, as amended by 65 Stat. 254).

(b) The revenue we collect may be used to:

(1) Pay for operation and maintenance of the utility;

(2) Maintain Reserve Funds to:

(i) Make repairs and replacements to the utility;

(ii) Defray emergency expenses;

(iii) Ensure the continuous operation of the power system; and

(iv) Pay other allowable expenses and obligations to the extent required or permitted by law.

§ 175.205 When are BIA rates and fees reviewed?

We review our rates and fees at least annually to:

(a) Determine if our financial requirements are being met to ensure the reliable operation of the utility serving you; and

(b) Determine if revenues are sufficient to meet the statutory requirements.

§ 175.210 What is BIA's procedure for adjusting service fees?

If, based on our annual review, we determine our service fees need to be adjusted:

(a) We will notify you at least 30 days prior to the effective date of the adjustment; and

(b) We will publish a schedule of the adjusted service fees in a local newspaper(s) and post them in the local utility office serving you.

§ 175.215 What is BIA's procedure for adjusting electric power rates?

Except for purchased power costs, if we determine electric power rates need to be adjusted, we will:

(a) Hold public meetings and notify you of their respective time, date, and location by newspaper notice and a notice posted in the utility office serving you;

(b) Provide you notice at least 15 days prior to the meeting;

(c) Provide you a description of the proposed rate adjustment;

(d) Provide you information on how, where, and when to submit comments on our proposed rate adjustment;

(e) Make a final determination on the proposed rate adjustment after all comments have been received, reviewed, and evaluated; and

(f) Publish the proposed rate adjustment and the final rate in the Federal Register if we determine the rate adjustment is necessary.

§ 175.220 How long do rate and fee adjustments stay in effect?

These adjustments remain in effect until we conduct a review and determine adjustments are necessary.

§ 175.225 What is the Federal Register, and where can I get it?

The Federal Register is the official daily publication for rules, proposed rules, and notices of official actions by Federal agencies and organizations, as well as Executive Orders and other Presidential Documents and is produced by the Government Printing Office (GPO). You can get Federal Register publications by:

(a) Visiting www.federalregister.gov or www.gpo.gov/fdsys;

(b) Writing to the GPO at Superintendent of Documents, P.O. Box 371954, Pittsburgh, PA 15250-7954; or

(c) Calling the GPO at (202) 512-1800.

§ 175.230 Why are changes to purchased power costs not included in the procedure for adjusting electric power rates?

Changes to purchased power costs are not included in the procedure for adjusting electric power rates because unforeseen increases in the cost of purchased power are:

(a) Not under our control;

(b) Determined by current market rates; and

(c) Subject to market fluctuations that can occur at an undetermined time and frequency.

§ 175.235 How does BIA include changes in purchased power costs in electric power rates?

When our cost of purchased power changes:

(a) We determine the effect of the change;

(b) We adjust the purchased power component of your bill accordingly;

(c) We add the purchased power adjustment to the existing electric power rate and put it into effect immediately;

(d) The purchased power adjustment remains in effect until we determine future adjustments are necessary;

(e) We must publish in the local newspaper and post at our office a notice of the purchase power adjustment and the basis for the adjustment; and

(f) Our decision to make a purchased power adjustment must be final.

Subpart C—Billing, Payments, and Collections

§ 175.300 How does BIA calculate my electric power bill?

(a) We calculate your electric power bill based on the:

(1) Current rate schedule for your type service; and

(2) Applicable service fees for your type service.

(b) If you have a metered service we must:

(1) Read your meter monthly;

(2) Calculate your bill based on your metered energy consumption; and

(3) Issue your bill monthly, unless otherwise provided in a Special Agreement.

(c) If we are unable to calculate your metered energy consumption, we must make a reasonable estimate based on one of the following reasons:

(1) Your meter has failed;

(2) Your meter has been tampered with; or

(3) Our utility personnel are unable to read your meter.

(d) If you have an unmetered service, we calculate your bill in accordance with your Special Agreement.

§ 175.305 When is my bill due?

The due date is provided on your bill.

§ 175.310 How do I pay my bill?

You may pay your bill by any of the following methods:

(a) In person at our utility office;

(b) Mail your payment to the address stated on your bill; or

(c) As further provided by the electric utility that serves you.

§ 175.315 What will happen if I do not pay my bill?

(a) If you do not pay your bill prior to the close of business on the due date, your bill will be past due.

(b) If your bill is past due we may:

(1) Disconnect your service; and

(2) Not reconnect your service until your bill, including any applicable fees, is paid in full.

(c) Specific regulations regarding non-payment can be found in 25 CFR 143.5(c).

§ 175.320 What will happen if my service is disconnected and my account remains delinquent?

(a) If your service has been disconnected and you still have an outstanding balance, we will assess you interest, penalties, and administrative costs in accordance with 31 CFR 901.9.

(b) We must forward your delinquent balance to the United States Treasury if it is not paid within 180 days after the original due date in accordance with 31 CFR 901.1.

Subpart D—System Extensions and Upgrades, Rights-of-Way, and Paperwork Reduction Act

§ 175.400 Will the utility extend or upgrade its electric system to serve new or increased loads?

The utility may extend or upgrade its electric system to serve new or increased loads. Contact your electric power utility providing service in your area for further information on new or increased loads.

§ 175.500 How does BIA manage rights-of-way?

Contact your electric power utility providing service in your area for further information on rights-of-way.

§ 175.600 How does the Paperwork Reduction Act affect this part?

The collection of information contained in this part have been approved by the Office of Management and Budget under 44 U.S.C. 3501 et seq. and assigned OMB Control Number 1076-0021. Response is required to obtain a benefit. A Federal agency may not conduct or sponsor, and you are not required to respond to, a collection of information unless the form or regulation requesting the information displays a currently valid OMB Control Number. Send comments regarding this collection of information, including suggestions for reducing the burden, to the Information Collection Clearance Officer—Indian Affairs, 1849 C Street NW, Washington, DC 20240.

Dated: October 31, 2018.
Tara Sweeney,
Assistant Secretary—Indian Affairs.

[FR Doc. 2018-25943 Filed 11-27-18; 8:45 am]

BILLING CODE 4337-15-P